INTERNATIONAL TRADE COMMISSION

[Investigation No. 731-TA-1225 (Final)]

Ferrosilicon From Venezuela

Determination

On the basis of the record ¹ developed in the subject investigation, the United States International Trade Commission (Commission) determines, pursuant to section 735(b) of the Tariff Act of 1930 (19 U.S.C. 1673d(b)) (the Act), that an industry in the United States is not materially injured or threatened with material injury, and the establishment of an industry in the United States is not materially retarded, by reason of imports from Venezuela of ferrosilicon, provided for in subheadings 7202.21.10, 7202.21.50, 7202.21.75, 7202.21.90, and 7202.29.00 of the Harmonized Tariff Schedule of the United States, that have been found by the Department of Commerce (Commerce) to be sold in the United States at less than fair value (LTFV).

¹ The record is defined in sec. 207.2(f) of the Commission's Rules of Practice and Procedure (19 CFR 207.2(f)).

Background

The Commission instituted this investigation effective July 19, 2013, following receipt of a petition filed with the Commission and Commerce by Globe Specialty Metals, Inc., New York, New York; CC Metals and Alloys, LLC, Calvert City, Kentucky; the United Steel, Paper and Forestry, Rubber, Manufacturing, Energy, Allied Industrial and Service Workers International Union; and the International Union, United Automobile, Aerospace and Agricultural Implement Workers of America. The final phase of the investigation was scheduled by the Commission following notification of a preliminary determination by Commerce that imports of ferrosilicon from Venezuela were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of March 31, 2014 (79 FR 18065). The hearing was held in Washington, DC, on July 29, 2014, and all persons who requested the opportunity were permitted to appear in person or by counsel.

The Commission completed and filed its determination in this investigation on September 8, 2014. The views of the Commission are contained in USITC Publication 4490 (September 2014), entitled Ferrosilicon From Venezuela: Investigation No. 731-TA-1225 (Final).

By order of the Commission.
Issued: September 8, 2014.
Lisa R. Barton,
Secretary to the Commission.

[FR Doc. 2014-21709 Filed 9-11-14; 8:45 am]

BILLING CODE 7020-02-P